FEDERAL DEPOSIT INSURANCE CORPORATION

Agency Information Collection Activities: Proposed Collection Renewal; Comment Request [OMB No. 3064-0145; -0161; -0171]

AGENCY: Federal Deposit Insurance Corporation (FDIC).

ACTION: Agency Information Collection Activities: Submission for OMB Review; Comment Request.

SUMMARY: The FDIC, as part of its obligations under the Paperwork Reduction Act of 1995, invites the general public and other Federal agencies to take this opportunity to comment on the request to renew the existing information collections described below (OMB Control No. 3064-0145; -0161 and -0171). The notice of the proposed renewal for these information collections was previously published in the Federal Register on January 13, 2022, allowing for a 60-day comment period.

DATES: Comments must be submitted on or before April 20, 2022.

ADDRESSES: Interested parties are invited to submit written comments to the FDIC by any of the following methods:

• Agency Website: https://www.fdic.gov/resources/regulations/federal-register-publications/index.html.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street NW building (located on F Street NW), on business days between 7:00 a.m. and 5:00 p.m.

Written comments and recommendations for the proposed information collection should be sent within 30 days of publication of this notice to www.reginfo.gov/public/do/PRAMain. Find this particular information collection by selecting “Currently under 30-day Review—Open for Public Comments” or by using the search function.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION: Proposal to renew the following currently approved collections of information:

1. Title: Notice Regarding Unauthorized Access to Customer Information.

OMB Number: 3064-0145.

Form Numbers: None.

Affected Public: Insured state nonmember banks.

Summary of Estimated Annual Burden
[OMB No. 3064-0145]
Information collection description | Type of burden (obligation to respond) | Frequency of response | Number of respondents | Hours per response | Annual burden (hours)
Implementation (One Time):
Develop Policies and Procedures for Response Program | Recordkeeping (Required) | 1 | 10 | 24 | 240
Ongoing:
Notice Regarding Unauthorized Access to Customer Information | Third Party Disclosure (Required) | On occasion | 315 | 36 | 11,340
Total Annual Burden (Hours) |  |  |  |  | 11,580
Source: FDIC.

Burden Estimate:

General Description of Collection: The Interagency Guidance on Response Programs for Unauthorized Access to Customer Information and Customer Notice describes the federal banking agencies' expectations regarding a response program, including customer notification procedures, that a financial institution should develop and apply under the circumstances described in the Guidance to address unauthorized access to or use of customer information that could result in substantial harm or inconvenience to a customer. The Guidance advises financial institutions when and how they might: (1) Develop notices to customers; (2) in certain circumstances defined in the Guidance, determine which customers should receive the notices; and (3) send the notices to customers.

There is no change in the methodology or substance of this information collection. The increase in total estimated annual burden from 11,340 hours in 2019 to 11,580 hours currently is due to economic factors as reflected in the increase in estimated number of respondents.

2. Title: Furnisher Information Accuracy and Integrity (FACTA 312).

OMB Number: 3064-0161.

Form Number: None.

Affected Public: State nonmember banks.

Burden Estimate:

Summary of Estimated Annual Burden
[OMB No. 3064-0161]
Information collection description | Type of burden (obligation to respond) | Number of responses | Number of respondents | Hours per response | Annual burden (hours)
Procedures to Enhance the Accuracy and Integrity of Information furnished to Consumer Reporting Agencies under Section 312 of the Fair and Accurate Credit Transaction Act | Recordkeeping (Required) | 1 | 3,140 | 40 | 125,600
Distribution of Notices in Response to Direct Disputes | Third Party Disclosure (Required) | 46 | 3,140 | 0.23 | 33,221
Total Annual Burden (Hours) |  |  |  |  | 158,821

General Description of Collection: Sec. 312 of the Fair and Accurate Credit Transaction Act of 2003 (FACT Act) requires the FDIC to: Issue guidelines for furnishers regarding the accuracy and integrity of the information about consumers furnished to consumer reporting agencies; prescribe regulations requiring furnishers to establish reasonable policies/procedures to implement the guidelines; and issue regulations identifying the circumstances where a furnisher must reinvestigate a dispute about the accuracy of information in a consumer report based on a direct request from a consumer.

There is no change in the method or substance of the collection. The overall increase in burden hours is the result of economic fluctuation. In particular, the number of respondents has increased while the hours per response and frequency of responses have remained the same.

3. Title: Registration of Mortgage Loan Originators.

OMB Number: 3064-0171.

Form Number: None.

Affected Public: FDIC Supervised Institutions and Employee Mortgage Loan Originators.

Burden Estimate:

Summary of Estimated Annual Burden
[OMB No. 3064-0171]
Information collection description | Type of burden | Frequency of response | Estimated number of respondents | Estimated number of responses per respondent | Estimated time per response (hours) | Estimated annual burden (hours)
Financial Institution Policies and Procedures for Ensuring Employee-Mortgage Loan Originator Compliance With S.A.F.E. Act Requirements—New Entrant | Recordkeeping | One-Time | 7 | 1 | 20 | 140
Financial Institution Policies and Procedures for Ensuring Employee-Mortgage Loan Originator Compliance With S.A.F.E. Act Requirements—Ongoing | Recordkeeping | Annual | 3,091 | 1 | 1 | 3,091
Financial Institution Procedures to Track and Monitor Compliance with S.A.F.E. Act Compliance—New Entrant | Recordkeeping | One-Time | 7 | 1 | 60 | 420
Financial Institution Procedures to Track and Monitor Compliance with S.A.F.E. Act Compliance—Ongoing | Recordkeeping | Annual | 3,091 | 1 | 1 | 3,091
Financial Institution Procedures for the Collection and Maintenance of Employee Mortgage Loan Originator's Criminal History Background Reports—New Entrant | Recordkeeping | One-Time | 7 | 1 | 20 | 140
Financial Institution Procedures for the Collection and Maintenance of Employee Mortgage Loan Originator's Criminal History Background Reports—Ongoing | Recordkeeping | Annual | 3,091 | 1 | 1 | 3,091
Financial Institution Procedures for Public Disclosure of Mortgage Loan Originator's Unique Identifier—New Entrant | Third Party Disclosure | One-Time | 7 | 1 | 25 | 175
Financial Institution Procedures for Public Disclosure of Mortgage Loan Originator's Unique Identifier—Ongoing | Third Party Disclosure | Annual | 3,091 | 1 | 1 | 3,091
Financial Institution Information Reporting to Registry | Reporting | On Occasion | 3,098 | 1 | 1 | 3,098
Mortgage Loan Originator Initial Registration Reporting and Authorization Requirements | Reporting | One-Time | 5,257 | 1 | .25 | 1,314
Mortgage Loan Originator Registration Updates Upon Change in Circumstances | Reporting | On Occasion | 40,015 | 1 | .25 | 10,004
Financial Institution Procedures for the Collection of Employee Mortgage Loan Originator's Fingerprints | Recordkeeping | On Occasion | 3,098 | 1 | 4 | 12,392
Mortgage Loan Originator Procedures for Disclosure to Consumers of Unique Identifier | Third Party Disclosure | On Occasion | 45,272 | 1 | 1 | 45,272
Mortgage Loan Originator Annual Renewal Registration Reporting and Authorization Requirements | Reporting | On Occasion | 40,015 | 1 | .25 | 10,004
Total Annual Burden |  |  |  |  |  | 95,323

General Description of Collection: This information collection implements the Secure and Fair Enforcement for Mortgage Licensing Act of 2008 (SAFE Act) requirement that employees of Federally-regulated institutions who engage in the business of a mortgage loan originator to register with the Nationwide Mortgage Licensing System and Registry and establishes national licensing and registration requirements. It also directs Federally-regulated institutions to have written policies and procedures in place to ensure that their employees who perform mortgage loan originations comply with the registration and other SAFE Act requirements.

There is no change in the method or substance of the collection. The overall decrease in burden hours is the result of economic fluctuation. In particular, the number of respondents and time per response have decreased while the frequency of responses have remained the same.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Federal Deposit Insurance Corporation.
Dated at Washington, DC, on March 14, 2022.
James P. Sheesley,
Assistant Executive Secretary.

[FR Doc. 2022-05803 Filed 3-18-22; 8:45 am]

BILLING CODE 6714-01-P